DEPARTMENT OF THE INTERIOR

Fish and Wildlife Service

Notice of Intent To Revise a Comprehensive Conservation Plan and Associated Environmental Impact Statement for the Kanuti National Wildlife Refuge, Fairbanks, AK

AGENCY: Fish and Wildlife Service, Department of the Interior.

ACTION: Notice of intent.

SUMMARY: This notice advises the public that the U.S. Fish and Wildlife Service (Service) intends to gather information necessary to revise the Comprehensive Conservation Plan (Plan) and to develop an Environmental Impact Statement, pursuant to the National Environmental Policy Act and its implementing regulations, for the Kanuti National Wildlife Refuge. The Service is furnishing this notice in compliance with the National Wildlife Refuge System Administration Act of 1966, as amended, and with Service planning policy to advise other agencies and the public of our intentions and to obtain suggestions and information on the scope of issues to be addressed in the environmental documents.

Special mailings, newspaper articles, and other media announcements will inform people of opportunities to provide written input throughout the planning process. Public meetings will be held in communities near the refuge (e.g., Bettles, Evansville, Allakaket, Alatna, Coldfoot, Hughes, and Fairbanks).

The draft and final Plans and associated Environmental Impact Statement will be available for viewing and downloading at www.r7.fws.gov/planning.

ADDRESSES: Address comments, questions, and requests for further information to Peter Wikoff, Planning Team Leader, U.S. Fish and Wildlife Service, 1011 East Tudor Rd. MS-231, Anchorage, AK 99503 or fw7_kanuti_planning@fws.gov.

FOR FURTHER INFORMATION, CONTACT: Peter Wikoff, Planning Team Leader, U.S. Fish and Wildlife Service, 1011 East Tudor Rd. MS-231, Anchorage, AK 99503 or fw7_kanuti_planning@fws.gov. Additional information concerning the plan can be found at http://www.r7.fws.gov/planning and concerning the refuge at http://refuges.fws.gov.

SUPPLEMENTARY INFORMATION: By Federal law (National Wildlife Refuge System Administration Act of 1966, as amended by the National Wildlife Refuge System Improvement Act of 1997 (Administration Act) [16 U.S.C. 668dd-668ee]), the Service is to manage all lands within the National Wildlife Refuge System in accordance with an approved Comprehensive Conservation Plan. Section 304(g) of the Alaska National Interest Lands Conservation Act (Pub. L. 96-487, 94 Stat. 2371) also directs that these plans be prepared. The Plan guides management decisions and identifies Refuge goals, long-range objectives, and strategies for achieving Refuge purposes. During the planning process, the planning team reviews a wide range of Refuge administrative requirements, including conservation of the refuge's fish and wildlife populations and habitats in their natural diversity; facilitation of subsistence use by local residents and access for traditional recreational activities; and conservation of resource values, including cultural resources, wilderness, and wild rivers. The final revised Plan will detail the programs, activities, and measures necessary to best administer the Refuge to protect these values and to fulfill Refuge purposes. In this Comprehensive Conservation Plan and associated Environmental Impact Statement, the Service will describe and evaluate a range of reasonable alternatives and the anticipated impacts of each. Public input into the planning process is essential.

The Plan will provide other agencies and the public with information to facilitate understanding of the desired conditions for the Refuge and how the Service will implement management strategies.

The Service will prepare an Environmental Impact Statement in accordance with procedures for implementing the National Environmental Policy Act of 1969 (42 U.S.C. 4321-4370d).

The Kanuti National Wildlife Refuge lies on the Arctic Circle about 100 miles south of the Brooks Range and 150 miles northwest of Fairbanks, Alaska. The Refuge lies in a basin formed by the Koyukuk and Kanuti rivers and encompasses approximately 1.6 million acres. The Refuge landscape consists of rolling hills, wetlands, ponds, and streams. It supports waterfowl, furbearers, wolves, moose, caribou, and bears.

The Alaska National Interests Land Conservation Act (ANILCA) of 1980 (Section 302[4][B]) established the Refuge and stated that the purposes for which the Kanuti Refuge was established and would be managed include:

(i) To conserve fish and wildlife populations and habitats in their natural diversity including, but not limited to, white-fronted geese and other waterfowl and migratory birds, moose, caribou (including participation in coordinated ecological studies and management of the Western Arctic caribou herd), and furbearers;

(ii) To fulfill the international treaty obligation of the United Sates with respect to fish and wildlife and their habitats;

(iii) To provide, in a manner consistent with the purposes set forth in subparagraphs (i) and (ii), the opportunity for continued subsistence uses by local residents; and

(iv) To ensure, to the maximum extent practicable and in a manner consistent with the purposes set forth in paragraph (i), water quality and necessary water quantity within the refuge.

The Comprehensive Conservation Plan for Kanuti was completed in 1987. It is being revised consistent with Section 304(g) of the Alaska National Interest Lands Conservation Act, the National Wildlife Refuge System Improvement Act of 1997, and Service planning policy.

Dated: November 7, 2003.
Rowan Gould,
Regional Director, U.S. Fish and Wildlife Service, Anchorage, Alaska.

[FR Doc. 03-29302 Filed 11-25-03; 8:45 am]

BILLING CODE 4310-55-P